DEPARTMENT OF JUSTICE

Notice of Lodging of Proposed Consent Decree

Correction

In notice document 2025-17942, appearing on page 44847 in the issue of Wednesday, September 17, 2025, make the following correction:

On page 44847, in the third column, in the second paragraph from the bottom, beginning in the fourth line of text, “https://www.justice.gov//decrees” should read “https://www.justice.gov/enrd/consent-decrees.”

[FR Doc. C1-2025-17942 Filed 12-1-25; 8:45 am]

BILLING CODE 0099-10-D